ENVIRONMENTAL PROTECTION AGENCY

[EPA-HQ-OPP-2010-0588; FRL-8850-8]

FIFRA Scientific Advisory Panel; Notice of Cancellation of Public Meeting

AGENCY: Environmental Protection Agency (EPA).

ACTION: Notice.

SUMMARY: The Agency is issuing this notice to cancel a November 2-5, 2010 meeting of the Federal Insecticide, Fungicide, and Rodenticide Act (FIFRA) Scientific Advisory Panel (SAP) to consider and review the Chlorpyrifos Physiologically-Based Pharmacokinetic/Pharmacodynamic (PBPK/PD) Modeling linked to the Cumulative and Aggregate Risk Evaluation System (CARES). The meeting was announced in the Federal Register of September 15, 2010; it will be rescheduled for early 2011.

FOR FURTHER INFORMATION CONTACT: Sharlene Matten, Designated Federal Official (DFO), Office of Science Coordination and Policy (7201M), Environmental Protection Agency, 1200 Pennsylvania Ave., NW., Washington, DC 20460-0001; telephone number: (202) 564-0130; fax number: (202) 564-8382; e-mail address: matten.sharlene@epa.gov.

SUPPLEMENTARY INFORMATION: The November 2-5, 2010 meeting of the FIFRA SAP to consider and review the Chlorpyrifos Physiologically-Based Pharmacokinetic/Pharmacodynamic (PBPK/PD) Modeling linked to the Cumulative and Aggregate Risk Evaluation System (CARES) has been cancelled. The meeting was announced in the Federal Register of September 15, 2010 (75 FR 56101) (FRL-8843-6). It will be rescheduled for early 2011. For further information, please contact the DFO listed under FOR FURTHER INFORMATION CONTACT.

List of Subjects

Environmental protection, Pesticides and pests.

Dated: October 7, 2010.
Frank Sanders,
Director, Office of Science Coordination and Policy.

[FR Doc. 2010-25910 Filed 10-14-10; 8:45 am]

BILLING CODE 6560-50-P